GENERAL SERVICES ADMINISTRATION

Federal Travel Regulation (FTR); Notice of GSA Bulletin FTR 08-10

AGENCY: Office of Governmentwide Policy, General Services Administration (GSA).

ACTION: Notice of a bulletin.

SUMMARY: This Bulletin informs agencies that certain provisions of the FTR governing the authorization of actual subsistence expenses for official travel (both TDY and relocation) are temporarily waived as a result of Hurricane Gustav, because it is expected that finding lodging facilities and/or adequate meals may be difficult, and distances involved may be great resulting in increased costs for per diem expenses.

GSA Bulletin FTR 08-10 may be found at www.gsa.gov/bulletin.

DATES: The bulletin announced in this notice became effective on August 31, 2008.

FOR FURTHER INFORMATION CONTACT: For clarification of content, contact General Services Administration, Office of Governmentwide Policy, Office of Travel, Transportation and Asset Management, at (202) 501-1777. Please cite FTR Bulletin 08-10.

SUPPLEMENTARY INFORMATION:

A. Background

As a result of the flooding and damage caused by Hurricane Gustav, agencies should consider delaying all non-essential TDY and relocation to the affected area for a period of 30 days. This is especially important with relocation travel because the 120-day maximum for TQSE cannot be extended due to statutory restrictions. Given the flooding and damage caused by the storm, we cannot effectively determine the extent to which the ability to secure lodgings will be compromised. In this case, each agency may determine whether this Bulletin applies to travel to areas which are impacted by Hurricane Gustav.

B. Procedures

Bulletins regarding the Federal Travel Regulation are located on the Internet at www.gsa.gov/bulletin as Federal Travel Regulation bulletins.

Dated: September 3, 2008.
Becky Rhodes,
Deputy Associate Administrator.

[FR Doc. E8-21071 Filed 9-10-08; 8:45 am]

BILLING CODE 6820-14-S